DEPARTMENT OF COMMERCE

International Trade Administration

[C-570-011]

Certain Crystalline Silicon Photovoltaic Products From the People's Republic of China: Final Results of the Expedited Second Sunset Review of the Countervailing Duty Order

AGENCY: Enforcement and Compliance, International Trade Administration, Department of Commerce.

SUMMARY: The U.S. Department of Commerce (Commerce) finds that revocation of the countervailing duty (CVD) order on certain crystalline silicon photovoltaic products from the People's Republic of China (China) would be likely to lead to continuation or recurrence of countervailable subsidies at the levels indicated in the “Final Results of Sunset Review” section of this notice.

DATES: Applicable February 10, 2026.

FOR FURTHER INFORMATION CONTACT: David De Falco, Trade Agreements Policy and Negotiations, Enforcement and Compliance, International Trade Administration, U.S. Department of Commerce, 1401 Constitution Avenue NW, Washington, DC 20230; telephone: 202-482-2178.

SUPPLEMENTARY INFORMATION:

Background

On February 18, 2015, Commerce published the Order on certain solar products from China.¹ On August 1, 2025, Commerce published the notice of initiation of the second sunset review of the Order, pursuant to section 751(c) of the Tariff Act of 1930, as amended (the Act) and 19 CFR 351.218(c).²

¹ See Certain Crystalline Silicon Photovoltaic Products from the People's Republic of China: Antidumping Duty Order; and Amended Final Affirmative Countervailing Duty Determination and Countervailing Duty Order, 80 FR 8592 (February 18, 2015) (Order).

² See Initiation of Five-Year (Sunset) Reviews, 90 FR 36139 (August 1, 2025).

On August 15, 2025, Commerce received a notice of intent to participate in this review from the American Alliance for Solar Manufacturing ³ (the domestic interested party), within the deadline specified in 19 CFR 351.218(d)(1)(i).⁴ The domestic interested party claims that it has interested party status within the meaning of section 771(9)(F) of the Act and 19 CFR 351.102(b)(29)(vii) as a trade or business association a majority of whose members manufacture, produce, or wholesale a domestic like product in the United States.⁵

³ The American Alliance for Solar Manufacturing consists of First Solar, Inc., Hanwha Q CELLS USA, Inc., Heliene USA, Inc., Suniva, Inc., and Mission Solar Energy LLC.

⁴ See Domestic Interested Party's Letter, “Crystalline Silicon Photovoltaic Products from the People's Republic of China: Notice of Intent to Participate in Sunset Review,” dated August 15, 2025.

⁵ Id. at 2.

On September 2, 2025, Commerce received an adequate substantive response from the domestic interested party, within the 30-day deadline specified in 19 CFR 351.218(d)(3)(i).⁶ Commerce did not receive a substantive response from either the Government of China or a respondent interested party to this proceeding. On September 23, 2025, Commerce notified the U.S. International Trade Commission (ITC) that it did not receive an adequate substantive response from respondent interested parties.⁷ As a result, Commerce conducted an expedited (120-day) sunset review of the Order, pursuant to section 751(c)(3)(B) of the Act and 19 CFR 351.218(e)(1)(ii)(B)(2) and (C)(2).

⁶ See Domestic Interested Party's Letter, “Crystalline Silicon Photovoltaic Products from the People's Republic of China: Substantive Response to Notice of Initiation of Sunset Review,” dated September 2, 2025.

⁷ See Commerce's Letter, “Sunset Reviews Initiated on August 1, 2025,” dated September 23, 2025.

Due to the lapse in appropriations and Federal Government shutdown, on November 14, 2025, Commerce tolled all deadlines in administrative proceedings by 47 days.⁸ Additionally, due to a backlog of documents that were electronically filed via Enforcement and Compliance's Antidumping and Countervailing Duty Centralized Electronic Service System (ACCESS) during the Federal Government shutdown, on November 24, 2025, Commerce tolled all deadlines in administrative proceedings by an additional 21 days.⁹ Accordingly, the deadline for these final results is now February 5, 2026.

⁸ See Memorandum, “Deadlines Affected by the Shutdown of the Federal Government,” dated November 14, 2025.

⁹ See Memorandum, “Tolling of all Case Deadlines,” dated November 24, 2025.

Scope of the Order

The product covered by this Order is certain crystalline silicon photovoltaic products from China. For the full description of the scope of the Order, see the Issues and Decisions Memorandum.¹⁰

¹⁰ See Memorandum, “Issues and Decision Memorandum for the Final Results of the Expedited Second Sunset Review of the Countervailing Duty Order on Certain Crystalline Silicon Photovoltaic Products from the People's Republic of China,” dated concurrently with, and hereby adopted by, this notice.

Analysis of Comments Received

A complete discussion of all issues raised in this sunset review, including the likelihood of continuation or recurrence of subsidization and the countervailable subsidy rates likely to prevail if the Order were to be revoked, is contained in the accompanying Issues and Decision Memorandum.¹¹ A list of the topics discussed in the Issues and Decision Memorandum is attached as an appendix to this notice. The Issues and Decision Memorandum is a public document and is on file electronically via ACCESS, which is available to registered users at https://access.trade.gov. In addition, complete versions of the Issues and Decision Memorandum can be accessed directly at https://access.trade.gov/public/FRNoticesListLayout.aspx.

¹¹ Id.

Final Results of Sunset Review

Pursuant to sections 751(c) and 752(b) of the Act, Commerce determines that revocation of the Order would be likely to lead to continuation or recurrence of countervailable subsidies at the following net countervailable subsidy rates: ¹²

¹² See Certain Crystalline Silicon Photovoltaic Products from the People's Republic of China: Notice of Court Decision Not in Harmony with Amended Final Affirmative Countervailing Duty Determination, 82 FR 52276 (November 13, 2017) (Final Determination Timken Notice); “Changzhou Trina Solar Energy Co., Ltd., et al, v. United States: Final Results of Redetermination Pursuant to Court Remand,” dated May 1, 2017 (Final Remand); and Certain Crystalline Silicon Photovoltaic Products from the People's Republic of China: Final Results of the Expedited Sunset Review of the Countervailing Duty Order, 85 FR 26929 (May 6, 2020) (First Sunset Review), and accompanying IDM. In the Final Determination Timken Notice, the subsidy rate likely to prevail for Changzhou Trina Solar Energy Co., Ltd. and its cross-owned affiliates (Trina Solar) was reported as both 33.50 percent ad valorem and 39.50 percent ad valorem. In the Final Remand, the calculated amended subsidy rate for Trina Solar was 39.50 percent ad valorem. The 33.50 percent ad valorem rate reported in the Final Determination Timken Notice was a typographical error and was incorrectly identified as the rate likely to prevail in the First Sunset Review. Accordingly, this sunset review applies the 39.50 percent ad valorem subsidy rate, plus additional subsidies found to be countervailable in the issues and decision memorandum adopted by this notice.

Company | Net countervailable subsidy rate (percent ad valorem)
Changzhou Trina Solar Energy Co., Ltd and its cross-owned affiliates ¹³ | 41.57
Wuxi Suntech Power Co., Ltd | 29.72
All Others | 35.65

Notification Regarding Administrative Protective Orders

¹³ Cross-owned affiliates are: Trina Solar Limited; Trina Solar (Changzhou) Science & Technology Co., Ltd.; Yancheng Trina Solar Energy Technology Co., Ltd.; Changzhou Trina Solar Yabang Energy Co., Ltd.; Hubei Trina Solar Energy Co., Ltd.; Turpan Trina Solar Energy Co., Ltd.; and Changzhou Trina PV Ribbon Materials Co., Ltd.

This notice also serves as the only reminder to parties subject to administrative protective order (APO) of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(b), and 777(i)(1) of the Act, and 19 CFR 351.221(c)(5)(ii).

Dated: February 4, 2026.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2026-02558 Filed 2-9-26; 8:45 am]

BILLING CODE 3510-DS-P